DEPARTMENT OF TRANSPORTATION

Federal Aviation Administration

Tenth Meeting, Special Committee 215 Aeronautical Mobile Satellite (Route) Services Next Generation Satellite Services and Equipment

AGENCY: Federal Aviation Administration (FAA), DOT.

ACTION: Notice of RTCA Special Committee 215, Aeronautical Mobile Satellite (Route) Services, Next Generation Satellite Services and Equipment.

SUMMARY: The FAA is issuing this notice to advise the public of a second meeting of RTCA Special Committee 215, Aeronautical Mobile Satellite (Route) Services, Next Generation Satellite Services and Equipment.

DATES: The meeting will be held October 23, 2008 9 a.m. to 12 noon.

ADDRESSES: Trump International Beach Resort, 18001 Collins Ave., Sunny Isles Beach, FL 33160, Tel: 305.692.5600, Fax: 305.692.5601, http://www.trumpmiami.com.

FOR FURTHER INFORMATION CONTACT: RTCA Secretariat, 1828 L Street, NW., Suite 805, Washington, DC 20036; telephone (202) 833-9339; fax (202) 833-9434; Web site http://www.rtca.org for directions. For additional details contact: Kelly O'Keefe, Tel: + 1 202 772-1873, e-mail: Kelly@accesspartnership.com.

Note: Dress is Business Casual.

SUPPLEMENTARY INFORMATION: Pursuant to section 10(a)(2) of the Federal Advisory Committee Act (Pub. L. 92-463, 5 U.S.C., Appendix 2), notice is hereby given for a Special Committee 215 meeting. The agenda will include:

October 23

Opening Plenary Session

• Greetings, Introductions, Administrative Remarks

• Review and Approval of Agenda for Tenth Plenary

• Review of October 2008 PMC Meeting

• Review of Revised Terms of Reference

• Review and Approval of Ninth Meeting Summary (RTCA Paper No. 211-08/SC215-031)

DO-262 Normative Appendix

• Status Update of Final Draft Approval

• Revision of TSO C-159 (FAA)

DO-270 Normative Appendix

• Report from Drafting Group

• Subnetwork Operational Approval Process

Closing Plenary

• Any Other Business

• Review of Next Plenary Meeting Dates

• Adjourn—October 23, 2008—12 noon

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 24, 2008.
Francisco Estrada C.,
RTCA Advisory Committee.

[FR Doc. E8-22983 Filed 9-29-08; 8:45 am]

BILLING CODE 4910-13-P